NUCLEAR REGULATORY COMMISSION

10 CFR Part 51

[Docket Nos. PRM-51-31; NRC-2014-0055]

Environmental Impacts of Spent Fuel Storage During Reactor Operation

AGENCY: Nuclear Regulatory Commission.

ACTION: Petition for rulemaking; acceptance and docketing.

SUMMARY: The U.S. Nuclear Regulatory Commission (NRC) has received a petition for rulemaking from Diane Curran on behalf of 34 Environmental Organizations (the petitioner), dated February 18, 2014. The petitioner requests that the NRC revise its regulations and consider, in all pending and future reactor licensing and re-licensing decisions, new and significant information bearing on the environmental impacts of high-density spent fuel storage in reactor pools and the costs and benefits for avoiding or mitigating those impacts. The NRC is not instituting a public comment period for this petition for rulemaking (PRM) at this time.

DATES: The PRM is available on May 1, 2014.

ADDRESSES: Please refer to Docket ID NRC-2014-0055 when contacting the NRC about the availability of information for this petition. You may access publicly-available information related to this petition by any of the following methods:

• Federal Rulemaking Web site: Go to http://www.regulations.gov and search for Docket ID NRC-2014-0055. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland, 20852.

FOR FURTHER INFORMATION CONTACT: Jennifer Tobin, Office of Nuclear Reactor Regulation, telephone: 301-415-2328, email: Jennifer.Tobin@nrc.gov; U.S. Nuclear Regulatory Commission, Washington DC 20555-0001.

SUPPLEMENTARY INFORMATION:

I. The Petitioner

Diane Curran, Harmon, Curran, Spielberg & Eisenberg, L.L.P., on behalf of 34 Environmental Organizations submitted a PRM dated February 18, 2014 (ADAMS Accession No. ML14071A382). Section II, Description of Petitioners,¹ of the petition states that “[a]ll of the organizations are neighbors of existing or proposed nuclear power plants, and most have either intervened or plan to intervene in NRC proceedings for the licensing or re-licensing of nuclear power plants.” ²

¹ Petition on pages 5 through 10.

² Petition on page 5.

II. The Petition

The petitioner states that the NRC, as a result of its post-Fukushima proceedings, generated new and significant information bearing on the environmental impacts of high-density pool storage in reactor pools and alternatives for avoiding or mitigating those impacts. The petitioner believes that the NRC-generated information satisfies the National Environmental Policy Act (NEPA) standard for “new and significant” information, in that the information is new because it has not been considered in any environmental study for the licensing or re-licensing of nuclear reactors and it is significant because it could affect the outcome of licensing and license renewal decisions for nuclear reactors, by altering the NRC's characterization of the impacts of spent fuel storage and/or by resulting in the consideration of measures to mitigate the environmental impacts of pool fires.

The petitioner requests the NRC take the following actions to ensure compliance with NEPA in the consideration of this new and significant information:

• Republish for public comment the 2013 Revised License Renewal Generic Environmental Impact Statement, the Environmental Impact Statements for all new reactors; and the Environmental Assessments for all new certifications of standardized reactor designs;

• Duly modify the NRC's regulations that make or rely on findings regarding the environmental impacts of spent fuel storage during reactor operation, including Table B-1 in subpart A of appendix B in Part 51 of Title 10 of the Code of Federal Regulations (10 CFR) and all regulations approving standardized reactor designs.

The complete text of the petition is available for review as described in the ADDRESSES section of this document.

Because the petitioner has satisfied the acceptance criteria in § 2.802, “Petition for rulemaking,” the NRC has accepted, and will review these requests to determine whether they should be considered in the rulemaking process. The NRC staff is currently reviewing the comments on the draft Waste Confidence Generic Environmental Impact Statement (78 FR 56621; September 13, 2013) and the proposed waste confidence rulemaking (78 FR 56766; September 13, 2013). The NRC staff will consider any insights gained from this ongoing review when analyzing the issues raised in PRM-51-31.

The NRC is not requesting public comment on the PRM at this time.

III. Petitioner's Request To Suspend Licensing Decisions Until the NRC Has Completed the Environmental Analysis Required by NEPA

The petitioner requests the NRC take the following actions to ensure compliance with NEPA in the consideration of this new and significant information:

• Suspend the effectiveness, in any new reactor licensing proceeding for reactors that employ high-density pool storage of spent fuel, of all regulations approving the standardized designs for those new reactors and all Environmental Assessments (“EAs”) approving Severe Accident Mitigation Design Alternatives (“SAMDAs”);

• Suspend all new reactor licensing decisions and license renewal decisions pending completion of this proceeding; and

• Suspend the effectiveness of Table B-1, which codifies the NRC's generic finding that spent fuel storage in high-density rector pools during the license renewal term of operating reactor poses no significant environmental impacts and therefore, need not be considered in individual reactor licensing decisions.

The NRC has determined that these requests are not part of the rulemaking process. The NRC will address in a separate action the petitioner's request to suspend these actions pending the NEPA analysis the petitioner believes to be necessary to address new and significant information generated by the NRC during its post-Fukushima proceedings.

Dated at Rockville, Maryland, this 24th day of April, 2014.
For the Nuclear Regulatory Commission.
Annette L. Vietti-Cook,
Secretary of the Commission.

[FR Doc. 2014-10018 Filed 4-30-14; 8:45 am]

BILLING CODE 7590-01-P